DEPARTMENT OF ENERGY

Federal Energy Regulatory Commission

[Docket No. ES02-1-000, et al.]

Citizens Communications Company, et al.; Electric Rate and Corporate Regulation Filings

October 10, 2001.

Take notice that the following filings have been made with the Commission:

1. Citizens Communications Company

[Docket No. ES02-1-000]

Take notice that on October 1, 2001, Citizens Communications Company(Applicant) filed an application for authorization to issue securities pursuant to Section 204 of the Federal Power Act, 16 U.S.C. 824(c) (1994), and part 34 of the Commission Rules and Regulations, 18 CFR part 34. The Applicants requests that the Commission authorize: (i) The issuance of unsecured promissory notes (Promissory Notes); (ii) the issuance of longer-term debt and asset securities (and any like instruments issued in exchange therefor or in refinancing thereof) with a final maturity or maturities of not less than nine months nor more than 50 years, and the entering into of capitalized leases and other instruments that are deemed to be long-term debt obligations of the Company (Longer-Term Debt Securities); (iii) the issuance of shares of common stock (Common Stock) including shares which may be issued upon conversion of other securities of the Company; and the issuance by the Company of shares of its preferred stock (Preferred Stock); and (iv) the assumption by the Company of obligations and liabilities of the Company's subsidiaries (and any like securities issued in exchange therefor or in refinancing thereof) (Guaranteed Obligation) all such issuances and assumption of securities under (i), (ii), (iii) and (iv) of unsecured Promissory Notes, long-term securities, common stock, preferred stock and guarantees being subject to an aggregate limitation of $3,000,000,000.

Comment date: October 25, 2001, in accordance with Standard Paragraph E at the end of this notice.

2. Citizens Communications Company

[Docket No. ES02-2-000]

Take notice that on October 1, 2001, Citizens Communications Company(Applicant) filed an application for authorization to renew a guarantee of the obligations of a non-utility subsidiary under a construction and lease facility covering non-jurisdictional equipment and facilities at a cost of up to $111 million.

Comment date: October 25, 2001, in accordance with Standard Paragraph E at the end of this notice.

3. Klamath Energy LLC

[Docket Nos. ER01-3121-000 and ER01-3121-001]

Take notice that on August 27, 2001, PPM Three LLC (Applicant) filed a notification of a name change with the Federal Energy Regulatory Commission (Commission) changing it from “PPM Three LLC” to Klamath Energy LLC (Klamath) effective August 20, 2001. On October 3, 2001, Klamath filed its First Revised Rate Schedule No. 1. Klamath's rate schedule was revised to reflect the change of name from PPM Three LLC to Klamath Energy LLC.

Comment date: October 24, 2001, in accordance with Standard Paragraph E at the end of this notice.

4. De Pere Energy L.L.C.

[Docket No. ER97-1432-011]

Take notice that on October 1, 2001, De Pere Energy L.L.C. (De Pere) filed with the Federal Energy Regulatory Commission (Commission) an updated market analysis in accordance with the Commission's Order dated June 12, 1997 in Docket Nos. ER97-1431-000 and ER97-1432-000.

Comment date: October 22, 2001, in accordance with Standard Paragraph E at the end of this notice.

5. Montana-Dakota Utilities Co., a Division of MDU Resources Group, Inc.

[Docket No. ER98-4289-000]

Take notice that on October 9, 2001, Montana-Dakota Utilities Co., a Division of MDU Resources Group, Inc. (Montana-Dakota) tendering for filing with the Federal Energy Regulatory Commission (Commission) an updated market analysis pursuant to the Commission's Order issued on October 16, 1998 authorizing market based rate authority.

Copies of the filing have been provided to the Montana Consumer Counsel, Montana Public Service Commission, North Dakota Public Service Commission, South Dakota Public Utilities Commission, and Wyoming Public Service Commission.

Comment date: October 30, 2001, in accordance with Standard Paragraph E at the end of this notice.

6. Bangor Hydro-Electric Company

[Docket Nos. ER00-980-004]

Take notice that on October 5, 2001, Bangor Hydro-Electric Company (Bangor Hydro), submitted with the Federal Energy Regulatory Commission (Commission), its open access transmission tariff with the correct tariff volume number consistent with Order No. 614. Bangor Hydro files its complete tariff including the corrected tariff sheets originally submitted to the Commission on March 28, 2001 as a compliance filing.

Comment date: October 26, 2001, in accordance with Standard Paragraph E at the end of this notice.

7. Allegheny Energy Service Corporation on behalf of Allegheny Energy Supply Company, LLC

[Docket No. ER02-18-000]

Take notice that on October 2, 2001, Allegheny Energy Service Corporation on behalf of Allegheny Energy Supply Company, LLC (Allegheny Energy Supply) filed with the Federal Energy Regulatory Commission (Commission) Service Agreement No. 150 to add one new Customer to the Market Rate Tariff under which Allegheny Energy Supply offers generation services. Allegheny Energy Supply proposes to make service available as of June 1, 2002 to the Borough of Seaside Heights. Confidential treatment of information in the Service Agreement has been requested.

Copies of the filing have been provided to the New Jersey Board of Public Utilities and all parties of record.

Comment date: October 23, 2001, in accordance with Standard Paragraph E at the end of this notice.

8. Idaho Power Company

[Docket No. ER01-2672-001]

Take notice that on October 4, 2001, Idaho Power Company amended its filing with the Federal Energy Regulatory Commission (Commission) the Generator Interconnection and Operating Agreement between Idaho Power Company and Emmett Power Company, under its open access transmission tariff in the above-captioned proceeding.

Comment date: October 25, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-26105 Filed 10-16-01; 8:45 am]

BILLING CODE 6717-01-P